ENVIRONMENTAL PROTECTION AGENCY

40 CFR Parts 80, 85, 86, 94, 1027, 1033, 1039, 1042, 1043, 1045, 1048, 1051, 1054, 1060, 1065, and 1068

[EPA-HQ-OAR-2007-0121; FRL-8927-6]

RIN 2060-AO38

Public Hearing for the Category 3 Marine Rule

AGENCY: Environmental Protection Agency (EPA).

ACTION: Notice of public hearings.

SUMMARY: The EPA is announcing a public hearing to be held for the proposed rule “Control of Emissions from New Marine Compression-Ignition Engines at or Above 30 Liters per Cylinder” (the proposed rule is hereinafter referred to as the “Category 3 Marine Rule”), which will be published separately in the Federal Register. There will be two hearings, one held in New York, NY, on August 4, 2009, and one held in Long Beach, CA on August 6, 2009.

In a separate notice of proposed rulemaking, EPA is proposing emission standards for new marine diesel engines with per cylinder displacement at or above 30 liters (called Category 3 marine diesel engines) installed on U.S. vessels, under section 213 of the Clean Air Act (CAA or “the Act”). The proposed engine standards are equivalent to the nitrogen oxides (NOX) limits recently adopted in the amendments to Annex VI to the International Convention for the Prevention of Pollution from Ships (MARPOL Annex VI) and are based on the position advanced by the United States Government as part of those international negotiations. The near-term standards for newly-built engines would apply beginning in 2011. Long-term standards would begin in 2016 and are based on the application of high-efficiency aftertreatment technology. We are also proposing a change to our diesel fuel program that would forbid the production and sale of marine fuel oil above 1,000 ppm sulfur for use in the waters within the proposed U.S. ECA and internal U.S. waters and allow for the production and sale of 1,000 ppm sulfur fuel for use in Category 3 marine vessels.

The proposal is part of a coordinated strategy to ensure that all ships that affect U.S. air quality meet stringent NOX and fuel sulfur requirements. In addition, on March 27, 2009, the U.S. Government forwarded a proposal to the International Maritime Organization (IMO) to amend MARPOL Annex VI to designate an Emission Control Area (ECA) off U.S. coasts. If this proposed amendment is not timely adopted by IMO, we intend to take supplemental action to control emissions from vessels affecting U.S. air quality.

The proposed regulations also include technical amendments to our motor vehicle and nonroad engine regulations. Many of these changes involve minor adjustments or corrections to our recently finalized rule for new nonroad spark-ignition engines, or adjustments to other regulatory provisions to align with this recently finalized rule. Our coordinated strategy also includes proposed regulations to implement MARPOL Annex VI pursuant to the Act to Prevent Pollution from Ships.

DATES: The public hearings will be held on Tuesday, August 4, 2009 in New York, NY, and on Thursday, August 6, 2009, in Long Beach, CA. If you would like to speak at a public hearing, please notify the contact person listed under FOR FURTHER INFORMATION CONTACT at least ten days before the hearing. See SUPPLEMENTARY INFORMATION for other detailed information regarding the public hearings for the Category 3 Marine Rule.

ADDRESSES: The hearings will be held at the following two locations: New York Marriott Downtown, 85 West Street, New York, NY 10006; and Westin Long Beach, 333 East Ocean Boulevard, Long Beach, CA 90802. Written comments on the proposed rule may also be submitted to EPA electronically, by mail, by facsimile, or through hand delivery/courier. Please refer to the notice of proposed rulemaking for the addresses and detailed instructions for submitting written comments.

FOR FURTHER INFORMATION CONTACT: Amy Kopin, U.S. EPA, Office of Transportation and Air Quality, Assessment and Standards Division (ASD), Environmental Protection Agency, 2000 Traverwood Drive, Ann Arbor, MI 48105; telephone number: (734) 214-4417; fax number: (734) 214-4050; e-mail address: Kopin.Amy@epa.gov; or Assessment and Standards Division Hotline, telephone number: (734) 214-4636.

SUPPLEMENTARY INFORMATION: The proposal for which EPA is holding the public hearing will be published separately in the Federal Register. A pre-publication copy of the notice of proposed rulemaking is available on the following Web site: http://www.epa.gov/otaq/oceanvessels.htm.

Public Hearings: The public hearings will provide interested parties the opportunity to present data, views, or arguments concerning the proposed rule. The EPA may ask clarifying questions during the oral presentations, but will not respond to the presentations at that time. Written statements and supporting information submitted during the comment period will be considered with the same weight as any oral comments and supporting information presented at the public hearings. Written comments must be received by the last day of the comment period, as specified in the proposal of the Category 3 Marine Rule.

The public hearings will be held on August 4, 2009 in New York, and August 6, 2009, in Long Beach, CA. These hearings will both start at 10 a.m. local time and continue until everyone has had a chance to speak. If you would like to speak at a public hearing, please notify the contact person listed under FOR FURTHER INFORMATION CONTACT at least ten days before the hearing. Verbatim transcripts of the hearings and written statements will be included in the rulemaking docket.

How Can I Get Copies of This Document, the Proposed Rule, and Other Related Information?

The EPA has established a docket for this action under Docket ID No. EPA-HQ-OAR-2007-0121. When the proposed rule is published in the Federal Register, a complete set of documents related to the proposal will be available for public inspection at the EPA Docket Center, located at 1301 Constitution Avenue, NW., Room 3334, Washington, DC, between 8:30 a.m. and 4:30 p.m., Monday through Friday, excluding legal holidays. A reasonable fee may be charged for copying. Documents are also available through the electronic docket system at http://www.regulations.gov. Please refer to the notice of proposed rulemaking for detailed information on accessing information related to the proposal.

The EPA has also developed a Web site for the proposed rule. A copy of the notice of proposed rulemaking (which is essentially the same as the proposal that will be published) was posted on the EPA Web site prior to publication in the Federal Register. The EPA Web site for the rulemaking, which includes information about the public hearings, can be found at: http://www.epa.gov/otaq/oceanvessels.htm.

Dated: June 25, 2009.
Margo T. Oge,
Director, Office of Transportation and Air Quality.

[FR Doc. E9-16079 Filed 7-7-09; 8:45 am]

BILLING CODE 6560-50-P